DEPARTMENT OF COMMERCE

Foreign-Trade Zones Board

Docket 20-2008

Foreign-Trade Zone 122 - Corpus Christi, Texas, Application for Subzone, Haliburton Energy Services, Inc., (Barite Grinding and Milling), Corpus Christi, Texas, Correction

The Federal Register notice (73 FR 20246, 4/15/08) describing the application submitted by the Port of Corpus Christi Authority, grantee of FTZ 122, requesting special-purpose subzone status for Haliburton Energy Services, Inc. (HESI) in Corpus Christi , is corrected as follows:

In the heading of the notice, third line, the correct docket number for the case should read “Docket 20-2008.”

Dated: April 15, 2008.
Andrew McGilvray,
Executive Secretary.

[FR Doc. E8-8436 Filed 4-17-08; 8:45 am]

BILLING CODE 3510-DS-S